DEPARTMENT OF ENERGY

Federal Energy Regulatory Commission

[Project No. 12549-002]

Hydrodynamics, Inc.; Notice of Application Tendered for Filing With the Commission and Soliciting Additional Study Requests

April 14, 2008.

Take notice that the following hydroelectric application has been filed with the Commission and is available for public inspection.

a. Type of Application: Minor unconstructed project.

b. Project No.: 12549-002.

c. Date Filed: April 1, 2008.

d. Applicant: Hydrodynamics, Inc.

e. Name of Project: A-Drop.

f. Location: On the Greenfield Main Canal, part of the Bureau of Reclamation's Sun River Irrigation Project, in Teton County, Montana, near Fairfield, Montana.

g. Filed Pursuant to: Federal Power Act 16 U.S.C. 791(a)-825(r).

h. Applicant Contact: Roger Kirk, Hydrodynamics, Inc., POB 1136, Bozeman, MT 59771, (406) 587-5086.

i. FERC Contact: Dianne Rodman, (202) 502-6077, dianne.rodman@ferc.gov.

j. Cooperating Agencies: We are asking Federal, state, local, and tribal agencies with jurisdiction and/or special expertise with respect to environmental issues to cooperate with us in the preparation of the environmental document. Agencies who would like to request cooperating status should follow the instructions for filing comments described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 1, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The proposed A-Drop Project would be built at the Greenfield Main Canal's Greenfield drop structure. The applicant proposes to construct: (1) An inflatable weir spanning the width of the canal; (2) an intake structure with trash rack and radial gate or stop-log shut off; (3) a buried, 96-inch-diameter, 570-foot-long steel or polyethylene penstock; (4) a powerhouse containing one Francis or propeller (Reaction) turbine and one generator with a rated output of 400 kilowatts; (5) a tailrace about 12.5 feet long, returning flows to the canal; (6) a switchyard; (7) a 0.1-mile-long, 12-kilovolt transmission line interconnecting with an existing powerline; and (8) an approximately 570-foot-long powerhouse access road. Average annual generation would be 2.5 gigawatt hours.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Montana State Historic Preservation Officer (SHPO), as required by § 106, National Historic Preservation Act, and the regulations of the Advisory Council on Historic Preservation, 36 CFR at § 800.4.

q. Procedural schedule: The application will be processed according to the following Hydro Licensing Schedule. Revisions to the schedule will be made as appropriate.

Issue deficiency letter and request for additional information—April 2008.

Issue Scoping Document 1 for comments—May 2008.

Issue Scoping Document 2, if necessary—July 2008.

Issue acceptance letter and notice that application is ready for environmental analysis—July 2008.

Notice of the availability of the EA—December 2008.

Kimberly D. Bose,
Secretary.

[FR Doc. E8-8500 Filed 4-18-08; 8:45 am]

BILLING CODE 6717-01-P